DEPARTMENT OF COMMERCE

National Oceanic and Atmospheric Administration

[RTID 0648-XC224]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Atlantic bigeye tuna is still overfished. NMFS, on behalf of the Secretary, is required to provide this notice whenever it determines that a stock or stock complex is subject to overfishing, overfished, or approaching an overfished condition.

FOR FURTHER INFORMATION CONTACT: Regina Spallone, (301)-427-8568.

SUPPLEMENTARY INFORMATION: Pursuant to section 304(e)(2) of the Magnuson-Stevens Fishery Conservation and Management Act (Magnuson-Stevens Act), 16 U.S.C. 1854(e)(2), NMFS, on behalf of the Secretary, must publish a notice in the Federal Register, whenever it determines that a stock or stock complex is subject to overfishing, overfished, or approaching an overfished condition.

Atlantic bigeye tuna are tropical tuna that are widely distributed throughout the Atlantic Ocean. The International Commission for the Conservation of Atlantic Tunas (ICCAT) Standing Committee on Research and Statistics (SCRS) conducts assessments for Atlantic bigeye tuna and makes stock status determinations consistent with ICCAT stock status criteria. NMFS uses the information from the SCRS assessments to make domestic determinations. NMFS has determined that Atlantic bigeye tuna is still overfished. This determination is based on a 2021 assessment, using data through 2019. Based on the domestic status determination criteria for overfishing and overfished, the stock remains overfished because the spawning stock biomass is less than the minimum stock size threshold. International cooperation is critical to effective management of the stock, given its geographic range and the small contribution of the United States to fishing mortality on the stock. NMFS continues to work with ICCAT to implement an international rebuilding program for this stock.

Dated: August 10, 2022.
Kelly Denit,
Director, Office of Sustainable Fisheries, National Marine Fisheries Service.

[FR Doc. 2022-17535 Filed 8-15-22; 8:45 am]

BILLING CODE 3510-22-P